DEPARTMENT OF COMMERCE

National Oceanic and Atmospheric Administration

[RTID 0648-XD075]

Atlantic Coastal Fisheries Cooperative Management Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an Exempted Fishing Permit application contains all of the required information and warrants further consideration. The Exempted Fishing Permit would allow commercial fishing vessels to fish outside fishery regulations in support of research conducted by the applicant. Regulations under the Magnuson-Stevens Fishery Conservation and Management Act and the Atlantic Coastal Fisheries Cooperative Management Act require publication of this notification to provide interested parties the opportunity to comment on applications for proposed Exempted Fishing Permits.

DATES: Comments must be received on or before June 26, 2023.

ADDRESSES: You may submit written comments by the following method:

• Email: nmfs.gar.efp@noaa.gov. Include in the subject line “CFRF Ventless Trap EFP.”

FOR FURTHER INFORMATION CONTACT: Laura Deighan, Fishery Management Specialist, Laura.Deighan@noaa.gov, (978) 281-9184.

SUPPLEMENTARY INFORMATION: The Commercial Fisheries Research Foundation submitted a complete application for an Exempted Fishing Permit (EFP) to conduct commercial fishing activities that the regulations would otherwise restrict. The EFP would continue to provide distribution, abundance, and biological data on juvenile lobsters and Jonah crabs from times and areas with low coverage from traditional surveys. This EFP would exempt the participating vessels from the following Federal regulations:

Table 1—Requested Exemptions
Citation | Regulation | Need for exemption
50 CFR 697.21(c) | Gear specification requirements | To allow for closed escape vents and smaller trap mesh and entrance heads.
§ 697.19 | Trap limit requirements | To allow for 3 additional traps per fishing vessel, for a total of 66 additional traps.
§ 697.19(j) | Trap tag requirements | To allow for the use of untagged traps (though each modified trap will have the participating fisherman's identification attached).
§ 697.20(a), (d), (g), and (h)(1) and (2) | Possession restrictions | To allow for onboard biological sampling of undersized, v-notched, and egg-bearing lobsters and undersized and egg-bearing Jonah crabs and retention of up to 300 legal and sublegal Jonah crabs per month for a molting study.

This project would continue an ongoing effort to collect data on juvenile lobster and Jonah crab abundance and distribution in areas and times of the year with low or no coverage by traditional surveys. To date, this project has collected data from over 200,000 lobsters and 120,000 Jonah crabs. The current EFP will expire on June 30, 2023. The EFP under consideration would authorize research trips from July 1, 2023, through June 30, 2024.

The project would include 5 inshore vessels (Lobster Management Area 2) and 17 offshore vessels (Lobster Management Areas 1 and 3) and may include an additional vessel to increase the offshore coverage (Lobster Management Areas 4 and 5). Each vessel would fish with 3 modified, ventless traps designed to capture juvenile lobsters, totaling up to 69 modified traps. The modified traps would adhere to the standard coast-wide survey gear for lobster and Jonah crab set by the Atlantic States Marine Fisheries Commission and would be fished with standard Atlantic Large Whale Take Reduction Plan-compliant trawls. The traps would remain in the water for up to 12 months and be hauled every 7 days by the inshore vessels and every 10 days by the offshore vessels.

This study would take place during the regular fishing activity of the participating vessels, but catch from modified traps would remain separate from that of standard gear. Operators would collect data on size, sex, presence of eggs, and shell hardness for lobsters and Jonah crabs and v-notch and shell disease for lobsters. In addition to onboard sampling, 3 inshore and 3 offshore vessels would retain up to 50 Jonah crabs per month each, for a total of up to 300 crabs per month, for a molting study. Operators would return all other specimens from modified gear to the ocean once sampling is complete.

The study is designed to inform management by addressing questions about changing reproduction and recruitment dynamics of lobster and to develop a foundation of knowledge for the data-deficient Jonah crab fishery. The Commercial Fisheries Research Foundation would share data with the Atlantic Coastal Cooperative Statistics Program, the Northeast Fisheries Science Center, the Atlantic States Marine Fisheries Commission, and the Rhode Island Department of Environmental Management every six months.

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

All comments received are a part of the public record and will generally be posted for public viewing at https://www.noaa.gov/organization/information-technology/foia-reading-room without change. All personal identifying information (e.g., name, address), confidential business information, or otherwise sensitive information submitted voluntarily by the sender will be publicly accessible. NMFS will accept anonymous comments (enter “anonymous” as the signature if you wish to remain anonymous).

Authority: 16 U.S.C. 1801 et seq.

Dated: June 5, 2023.
Jennifer M. Wallace,
Acting Director, Office of Sustainable Fisheries, National Marine Fisheries Service.

[FR Doc. 2023-12290 Filed 6-8-23; 8:45 am]

BILLING CODE 3510-22-P